DEPARTMENT OF TRANSPORTATION

Coast Guard

33 CFR Part 100

[CGD07-01-120]

RIN 2115-AE46

Special Local Regulations: Cingular Wireless Winterfest Boat Parade, Broward County, Fort Lauderdale, FL

AGENCY: Coast Guard, DOT.

ACTION: Temporary final rule.

SUMMARY: Temporary special local regulations are being established for the Cingular Wireless Winterfest Boat Parade. The event will be held on December 15, 2001, on the waters of the Port Everglades turning basin and the Intracoastal Waterway (ICW) from Dania Sound Light 35 to Pompano Beach Day Beacon 74. This rule creates 3 regulated areas around a staging area, parade route and viewing area. These regulations are needed to provide for the safety of life on navigable waters during the event.

DATES: These regulations are effective from 5 p.m. on December 15, 2001 until 11 p.m. on December 15, 2001.

ADDRESSES: Documents indicated in this preamble as being available in the docket, are part of docket CGD07-01-120 and are available for inspection or copying at Coast Guard Group Miami, 100 MacArthur Causeway, Miami Beach, Florida, 33139 between 8 a.m. and 4 p.m., Monday through Friday, except Federal holidays.

FOR FURTHER INFORMATION CONTACT: BMC Sorensen, Coast Guard Group Miami, Florida at (305) 535-4317.

SUPPLEMENTARY INFORMATION:

Regulatory Information

We did not publish a notice of proposed rulemaking (NPRM) for this regulation. Under 5 U.S.C. 553(b)(B), the Coast Guard finds that good cause exists for not publishing a NPRM. Publishing a NPRM and delaying the effective date of this rule would be contrary to public safety interests since immediate action is needed to minimize potential danger to the public because there will be numerous spectator craft in the area. Publishing a NPRM is also unnecessary because the temporary rule will only be in effect for 6 hours and this is an annual event that has been well publicized to the local community.

For the same reasons, under 5 U.S.C. 553(d)(3), the Coast Guard finds that good cause exists for making this rule effective less than 30 days after publication in the Federal Register.

Background and Purpose

The Cingular Wireless Winterfest Boat Parade is a nighttime parade of approximately 110 pleasure boats ranging in length from 20 feet to 200 feet decorated with holiday lights. Approximately 1500 spectator craft are anticipated to view the parade. The parade will form in the staging area at the Port Everglades turning basin and south in the ICW and the parade route will proceed north on the ICW to Lake Santa Barbara where the parade will disband. This regulation creates regulated areas for the staging area, viewing area, and parade route. The staging area encompasses the entire Port Everglades turning basin, south to Dania Sound Light 35 (LLNR 47575). The parade route encompasses the Intracoastal Waterway from Dania Sound Light 35 (LLNR 47575) to Pompano Beach day beacon 74 (LLNR 47230). The viewing area covers the west side of the ICW from the Sunrise Boulevard Bridge (26° 08.281′N, 080° 06.482′W) south to the New River Sound Light 3 (LLNR 47240).

Non-participant vessels are not allowed to enter or anchor in the staging area. Further, no vessel is allowed to anchor in the vicinity of the shore side viewing area that covers the west side of the ICW between the Sunrise Boulevard Bridge (26° 08.281′N, 080° 06.482′W and the New River Sound Light 3 (LLNR 47240). During the parade transit, these regulations prohibit non-participant vessels from approaching within 175 yards ahead of the lead vessel or 175 yards astern of the last participant vessel in the parade, and within 15 yards on either side of the outboard parade vessels, unless authorized by the Coast Guard Patrol Commander. The event sponsor will have approximately 20 watercraft to guide mariners around the regulated areas.

The staging area of this special local regulation will overlap the two existing temporary fixed security zones in Port Everglades [COTP MIAMI-01-116 and COTP MIAMI-01-122]. These temporary fixed security zones are activated when a high capacity passenger vessel or a vessel carrying cargoes of particular hazard as defined in Title 33, Code of Federal Regulations part 126, enter or moor within the respective zone. These temporary fixed security zones prohibit vessels from entering the security zones without the permission of the Captain of the Port of Miami.

The first temporary fixed security zone [COTP MIAMI-01-116] encompasses all waters west of an imaginary line starting with the northern most point 26° 05.98′N, 080° 07.15′W, near the west side of the 17th Street Bridge, to the southern most point at 26° 05.41′N, 080° 06.97′W on the tip of the pier near Burt and Jacks Restaurant. The Coast Guard anticipates a cruise ship being moored within this zone; thus this security zone will be activated and no vessels will be permitted to enter the zone without the permission of the Miami Captain of the Port or his designated representative.

The second temporary fixed security zone [COTP MIAMI-01-122] encompasses the waters of the ICW between a line connecting a point at 26° 05.41′N, 080° 06.97′W on the northern tip of Port Everglades berth 22 near Burt and Jacks Restaurant and a point directly east across the Intracoastal Waterway (ICW) at 26° 05.41′N, 080° 06.74′W; and a line drawn from the corner of Port Everglades berth 29 at point 26° 04.72′N, 080° 06.92′W, easterly across the ICW to John U. Lloyd Beach, State Recreational Area at point 26° 04.72′N, 080° 06.81′W. The Coast Guard anticipates that a cruise ship will be moored in this second temporary fixed security zone, so no person or vessel may enter the security zone without the permission of the Captain of the Port or his designated representative. This second zone overlaps the parade staging area but the Coast Guard anticipates allowing persons to transit the east side of the ICW enroute to the parade staging area (with the cruise ship moored on the west side near terminal 24), while this second temporary security zone is activated. The Coast Guard anticipates further that the cruise ship moored at berth 24 will depart the Port sometime during the parade formation and as a result this security zone will be deactivated after the cruise ship departs.

The regulated area created by this special local regulation will continue to be enforced if either security zone above is deactivated. The security zones and special local regulation allow the Coast Guard and local law enforcement maximum flexibility to ensure the safety of the entire Port and those within the Port area. The Coast Guard anticipates no ship arrivals during the timeframe of this special local regulation. However, a ship may unexpectedly require transit into port, necessitating on-scene changes. All on-scene changes will be announced on VHF-FM Channels 13 and 16.

Discussion of Rule

The Coast Guard is establishing 3 regulated areas under this regulation, a staging area, a viewing area, and a parade route. The staging area encompasses all the waters within the Port Everglades turning basin and that portion of the Intracoastal Waterway (ICW) extending from Port Everglades turning basin to Dania Sound Light 35 (LLNR 47575). The viewing area covers the west side of the Intracoastal Waterway from the Sunrise Boulevard Bridge (26° 08.281′N, 080° 06.482′W) south to the New River Sound Light 3 (LLNR 47240). The parade route includes the Intracoastal Waterway from Dania Sound Light 35 (LLNR 47575) to Pompano Beach Daybeacon 74 (LLNR 47230).

All non-participant persons and vessels are prohibited from entering or anchoring in the staging area and all vessels are prohibited from anchoring in the viewing area, unless authorized by the Patrol Commander. During the parade transit along the parade route, non-participant vessels are prohibited from approaching within 175 yards ahead of the lead vessel or 175 yards astern of the last participant vessel in the parade, and within 15 yards on either side of the outboard parade vessels. The Coast Guard Patrol Commander may allow vessels to enter the staging area when the last participant vessel has cleared the staging area. The Coast Guard Patrol Commander will notify the public via Marine Safety Radio Broadcast on VHF Marine Band Radio, Channel 16 (157.1 MHz) if vessels are authorized to enter the staging area.

Regulatory Evaluation

This proposal is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, 1979) because the rule will only be in effect for 6 hours and vessels will still be allowed to transit the regulated areas with the permission of the Coast Guard Patrol Commander.

Small Entities

Under the Regulatory Flexibility Act (5 U.S.C. 601-612), the Coast Guard considered whether this rule would have a significant economic effect upon a substantial number of small entities. “Small entities” include small business, not-for-profit organizations that are independently owned and operated and are not dominant in their fields, and governmental jurisdictions with populations of less than 50,000.

This rule may affect the following entities, some of which may be small entities: the owners or operators of vessels intending to transit or anchor in the Port Everglades turning basin and portions of the Intracoastal Waterway. The Coast Guard certifies under 5 U.S.C. 605(b) that this rule will not have a significant economic impact on a substantial number of small entities because the rule will only be in effect for 6 hours and vessels will still be allowed to transit the regulated areas with the permission of the Coast Guard Patrol Commander.

Assistance for Small Entities

Under section 213(a) of the Small Business Regulatory Enforcement Fairness Act of 1996 (Pub. L. 104-121), we offer to assist small entities in understanding the rule so that they may better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information requirements under the Paperwork Reduction Act (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandate Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard has considered the environmental impact of this action and has determined pursuant to Figure 2-1, paragraph 34(h) of Commandant Instruction M16475.1D, that this action is categorically excluded from further environmental documentation.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 33 U.S.C. 1233 to 1236; 49 CFR 1.46; 33 CFR 100.35.

2. A new temporary § 100.35T-07-120 is added to read as follows:

§ 100.35T-07-120 Cingular Wireless Winterfest Boat Parade, Broward County, Fort Lauderdale, FL.

(a) Definitions.

(1) Staging area. The staging area includes all waters within the Port Everglades turning basin, west of a line drawn from the 17th Street Causeway Bridge (26° 06.044′N, 080° 07.089′W) south along the northeast shore of the turning basin, east through Bar Cut to Light 6 (LLNR 10340), south across Bar Cut to Light 7 (LLNR 10345), then southwest along the southeast shore of the turning basin to Daybeacon 1 (LLNR 10375) at Coast Guard Station Fort Lauderdale. The staging area also includes that portion of the Intracoastal Waterway from Port Everglades Turning Basin south to Dania Sound Light 35 (LLNR 47575).

(2) Parade route. The parade route includes the Intracoastal Waterway (ICW) from Dania Sound Light 35 (LLNR 47575) to Pompano Beach Daybeacon 74 (LLNR 47230).

(3) Viewing area. The viewing area covers the west side of the Intracoastal Waterway from the Sunrise Boulevard Bridge (26° 08.281′N, 080° 06.482′W) south to the New River Sound Light 3 (LLNR 47240).

(4) Coast Guard Patrol Commander. The Coast Guard Patrol Commander is a commissioned, warrant, or petty officer of the Coast Guard who has been designated by the Commander, Coast Guard Group Miami, Florida and is also the designated representative of the Captain of the Port of Miami for purposes of enforcing security zones in Port Everglades during this event.

(b) Special Local Regulations.

(1) Staging area. Entry or anchoring in the staging area by nonparticipating vessels is prohibited, unless authorized by the Patrol Commander. The Coast Guard Patrol Commander may allow vessels to enter the staging area when the last participant vessel has departed the staging area. The Coast Guard Patrol Commander will notify the public via Marine Safety Radio Broadcast on VHF Marine Band Radio, Channel 16 (157.1 MHz) if vessels are allowed to enter the staging area.

(2) Parade route. During the parade transit, non-participant vessels are prohibited from approaching within 175 yards ahead of the lead vessel or 175 yards astern of the last participating vessel in the parade, and within 15 yards on either side of the outboard parade vessels, unless authorized by the Coast Guard Patrol Commander.

(3) Viewing Area. Vessels are prohibited from anchoring in the viewing area.

(4) Miscellaneous. A succession of not fewer that 5 short whistle or horn blasts from a patrol vessel will be the signal for any and all vessels to stop immediately. At the discretion of the Coast Guard Patrol Commander, all vessels may resume normal operations after the passage of the parade participants.

(c) Dates. This section becomes effective at 5 p.m. on December 15, 2001 and terminates at 11 p.m. on December 15, 2001.

Dated: December 1, 2001.
James S. Carmichael,
Rear Admiral, U.S. Coast Guard, Commander, Seventh Coast Guard District.

[FR Doc. 01-30477 Filed 12-7-01; 8:45 am]

BILLING CODE 4910-15-U